DEPARTMENT OF TRANSPORTATION

Federal Aviation Administration

Notice of Intent To Rule on Application To Impose and Use the Revenue From a Passenger Facility Charge (PFC) at Savannah International Airport, Savannah, Georgia

AGENCY: Federal Aviation Administration (FAA), DOT.

ACTION: Notice of intent to rule on application.

SUMMARY: The FAA proposes to rule and invites public comment on the application to impose and use the revenue from a PFC at the Savannah International Airport under the provisions of the Aviation Safety and Capacity Expansion Act of 1990 (Title IX of the Omnibus Budget Reconciliation Act of 1990) (Pub. L. 101-508) and part 158 of the Federal Aviation Regulations (14 CFR part 158).

DATES: Comments must be received on or before November 15, 2000.

ADDRESSES: Comments on this application may be mailed or delivered in triplicate to the FAA at the following address: Atlanta Airports District Office, 1701 Columbia Avenue, Suite 2-260, College Park, Georgia 30337-2747.

In addition, one copy of any comments submitted to the FAA must be mailed or delivered to Mr. Patrick S. Graham, Executive Director of the Savannah Airport Commission at the following address: Savannah Airport Commission, 400 Airways Avenue, Savannah, Georgia 31408.

Air carriers and foreign air carriers may submit copies of written comments previously provided to the Savannah Airport Commission under § 158.23 of part 158.

FOR FURTHER INFORMATION CONTACT: Daniel Gaetan, Program Manager, Atlanta Airports District Office, Atlanta Airports District Office, 1701 Columbia Avenue, Suite 2-260, College Park, Georgia 30337-2747, (404) 305-7146. The application may be reviewed in person at this same location.

SUPPLEMENTARY INFORMATION: The FAA proposes to rule and invites public comment on the application to impose and use the revenue from a PFC at the Savannah International Airport under the provisions of the Aviation Safety and Capacity Expansion Act of 1990 (Title IX of the Omnibus Budget Reconciliation Act of 1990) (Pub. L. 101-508) and part 158 of the Federal Aviation Regulations (14 CFR part 158).

On October 3, 2000, the FAA determined that the application to impose and use the revenue from a PFC submitted by the Savannah Airport Commission was substantially complete within the requirements of § 158.25 of part 158. The FAA will approve or disapprove the application, in whole or in part, no later than January 3, 2001.

The following is a brief overview of the application.

PFC Application No.: PFC No. 00-04-C-00-SAV.

Level of the proposed PFC: $4.50.

Proposed charge effective date: January 1, 2010.

Proposed charge expiration date: December 31, 2010.

Total estimated net PFC revenue: $4,223,048.

Brief description of proposed project(s):

Sweeper

Loading Bridges

Airfield Lighting Control

Taxiway Extension

Construct Connector Taxiway

Access Road to Southwest Quadrant

Install Additional Gates in Concourse

Install Escalator

Install Elevator

Extend Terminal Apron

PFC Administration

Class or classes of air carriers that the public agency has requested not be required to collect PFCs: Air taxi/Commercial operators (ATCO) filing form 1800-31.

Any person may inspect the application in person at the FAA office listed above under FOR FURTHER INFORMATION CONTACT.

In addition, any person may, upon request, inspect the application, notice and other documents germane to the application in person at the Savannah Airport Commission.

Issued in College Park, Georgia, on October 5, 2000.
Rans D. Black,
Acting Manager, Atlanta Airports District Office, Southern Region.

[FR Doc. 00-26516 Filed 10-13-00; 8:45 am]

BILLING CODE 4910-13-M